DEPARTMENT OF ENERGY

Federal Energy Regulatory Commission

Notice of Request for Amendment of Recreation Plan and Soliciting Comments, Motions to Intervene, and Protests

April 11, 2001.

Take notice that the following application has been filed with the Commission and is available for public inspection:

a. Application Type: Request for amendment of the project's approved recreation plan.

b. Project No. 2506-070.

c. Date Filed: January 25, 2001.

d. Licensee: Upper Peninsula Power Company.

e. Name of Project: Escanaba Project.

f. Location: On the Escanaba River, near the township of Escanaba in Delta and Marquette Counties, Michigan. The project site does not involve federal or tribal lands.

g. Filed Pursuant to: Federal Power Act, 16 U.S.C. 791(a)-825(r).

h. Licensee Contact: Mr. Shawn Puzen, Wisconsin Public Service Corporation, 700 Adams Street, P.O. Box 19002, Green Bay, Wisconsin 54307-9002. (920) 433-1094.

i. FERC Contact: Any questions on this notice should be addressed to Jean Potvin, jean.potvin@ferc.fed.us, or (202) 219-0022.

j. Deadline for filing comments and or motions: May 18, 2001.

All documents (original and eight copies) should be filed with Mr. David P. Boergers, Secretary, Federal Energy Regulatory Commission, 888 First Street, NE, Washington, D.C. 20426. Comments, protests and interventions may be filed electronically via the internet in lieu of paper. See, 18 CFR 385.2001(a)(1)(iii) and the instructions on the Commission's web site at http://www.ferc.fed.us/rfi/doorbell.htm. Please reference the following number, P-2506-070, on any comments or motions filed.

k. Description of Proposal: The licensee proposes to amend the approved recreation plan of the project license by constructing a carry-in boat access on the south shore of the impoundment, west of the powerhouse of Dam #1 rather than off U.S. Highway 2 on the southeast shore of the impoundment. The facility will include a parking lot suitable for 5 vehicles, proper signage to inform the public that the area is open for public use, a picnic table, stairs to the river, a canoe slide, and a modified skid pier. This amendment was filed following to a public notice issued on December 20, 2000 soliciting comments, motions to intervene, and protests concerning the licensee's request to delete the requirement for a carry-in boat access from the approved recreation plan.

l. Locations of the Application: A copy of the application is available for inspection and reproduction at the Commission's Public Reference Room, at 888 First Street, NE, Room 2A, Washington, D.C. 20426, or by calling 202-208-1371. The application may be viewed on-line at http://www.ferc.fed.us/online/rims.htm (call 202-208-2222 for assistance). A copy is also available for inspection and reproduction at the address in item h above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-9419 Filed 4-16-01; 8:45 am]

BILLING CODE 6717-01-M